DEPARTMENT OF ENERGY

Federal Energy Regulatory Commission

[Project No. 14467-000]

New England Hydropower Company, LLC; Notice of Preliminary Permit Application Accepted for Filing and Soliciting Comments, Motions To Intervene, and Competing Applications

On November 9, 2012, the New England Hydropower Company, LLC, filed an application for a preliminary permit, pursuant to section 4(f) of the Federal Power Act (FPA), proposing to study the feasibility of the Cochrane Dam Hydroelectric Project (Cochrane Dam Project or project) to be located on the Charles River, near Needham and Dover, Norfolk County, Massachusetts. The sole purpose of a preliminary permit, if issued, is to grant the permit holder priority to file a license application during the permit term. A preliminary permit does not authorize the permit holder to perform any land-disturbing activities or otherwise enter upon lands or waters owned by others without the owners' express permission.

The proposed project would consist of the following: (1) An existing 15-foot-high, 200-foot-long stone masonry spillway dam with concrete retaining walls; (2) an existing impoundment with a 5.1-acre surface area and a normal storage capacity of 640 acre-feet at an operating elevation of about 102.3 feet above mean sea level (msl); (3) an existing 30-foot-long, 18-foot-wide, and 10-foot-deep head box and intake channel; (4) a new 6-foot-high, 14-foot-wide sluice gate equipped with a 14-foot-high, 21-foot-wide trashrack with 6-inch bar spacing; (5) a new 50-foot-long, 13-foot wide Archimedes screw generator unit with an installed capacity of 170 kilowatts; (6) a new 10-foot-high, 18-foot-long, 18-foot-wide powerhouse containing a new gearbox and electrical controls; (7) an existing 375-foot-long, 20-foot-wide, and 4-foot-deep tailrace; (8) a new above ground 300-foot-long, 35-kilovolt transmission line connecting the powerhouse to the NSTAR regional grid; and (9) appurtenant facilities. The estimated annual generation of the proposed Cochrane Dam Project would be about 811 megawatt-hours. The existing Cochrane Dam and appurtenant works, including a former powerhouse foundation and intake structures, are owned by the Commonwealth of Massachusetts and operated by the Massachusetts Department of Conservation and Recreation.

Applicant Contact: Mr. Michael C. Kerr, New England Hydropower Company, LLC, P.O. Box 5524, Beverly Farms, Massachusetts 01915; phone: (978) 360-2547.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14467) in the docket number field to access the document. For assistance, contact FERC Online Support.

Dated: November 26, 2012.
Kimberly D. Bose,
Secretary.

[FR Doc. 2012-29079 Filed 11-30-12; 8:45 am]

BILLING CODE 6717-01-P